Title 3—

The President

Presidential Determination No. 2003-41 of September 30, 2003

Transfer of Funds from International Organizations and

Programs (IO&P) Funds to the Child Survival and Health Programs Fund

Memorandum for the Secretary of State

Consistent with the authority vested in me by the Constitution and laws of the United States, including section 610 of the Foreign Assistance Act of 1961, as amended (FAA), I hereby determine it is necessary for the purposes of the FAA that the $25 million in FY 2003 International Organizations and Programs funds that were reserved to be allocated for the United Nations Population Fund be transferred to, and consolidated with, the Child Survival and Health Programs Fund, and such funds are hereby transferred and consolidated.

You are hereby authorized and directed to report this determination to the Congress and to arrange for its publication in the Federal Register.

B

THE WHITE HOUSE,

Washington, September 30, 2003.

[FR Doc. 03-25782

Filed 10-8-03; 8:45 am]

Billing code 4710-10-P